DEPARTMENT OF AGRICULTURE

Submission for OMB Review; Comment Request

May 11, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Onions Grown in Certain Designated Counties in Idaho, and Malheur County, Oregon.

OMB Control Number: 0581-0241.

Summary of Collection: Marketing Order No. 958 regulates the handling of onions grown in certain designated counties in Idaho, and Malheur County, Oregon. The Agricultural Marketing Agreement Act of 1937, Secs. 1-19, 48 Stat. 31, as amended, (7U.S.C. 601-674) authorizes the promulgation of marketing orders for certain agricultural commodities and the issuance of regulations thereof for the purpose of providing orderly marketing conditions in interstate and intrastate commerce and for improving returns to producers.

Need and Use of the Information: The Idaho-Eastern Onion Committee will use forms to collect information about the issuance of grade, size, quality, maturity, pack, container markings, shipping holidays, inspection and reporting requirements from individuals and firms who are involved in the production, handling and processing of onions grown in the production area. This information is necessary to effectively carry out the requirements of the Order, and fulfill the intent of the Act as expressed in the Order.

Description of Respondents: Business or other for-profit.

Number of Respondents: 55.

Frequency of Responses: Reporting: On occasion.

Total Burden Hours: 359.

Charlene Parker,
Departmental Information Collection Clearance Officer.

[FR Doc. E7-9457 Filed 5-15-07; 8:45 am]

BILLING CODE 3410-02-P